DEPARTMENT OF COMMERCE

International Trade Administration

Initiation of Antidumping and Countervailing Duty Administrative Reviews and Requests for Revocations in Part

AGENCY: Import Administration, International Trade Administration, Department of Commerce.

ACTION: Notice of initiation of antidumping and countervailing duty administrative reviews and requests for revocations in part.

SUMMARY: The Department of Commerce (the Department) has received requests to conduct administrative reviews of various antidumping and countervailing duty orders and findings with February anniversary dates. In accordance with the Department's regulations, we are initiating those administrative reviews. The Department of Commerce also received requests to revoke two antidumping duty orders in part.

EFFECTIVE DATE: March 27, 2002.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2001), for administrative reviews of various antidumping and countervailing duty orders and findings with February anniversary dates. The Department also received timely requests to revoke in part the antidumping duty order on Heavy Forged Hand Tools (hammers/sledges, and picks/mattocks) from the People's Republic of China and Certain Preserved Mushrooms from Indonesia.

Initiation of Reviews

In accordance with section 19 CFR 351.221(c)(1)(i), we are initiating administrative reviews of the following antidumping and countervailing duty orders and findings. We intend to issue the final results of these reviews not later than February 28, 2003.

| Period to be ­reviewed
Antidumping Duty Proceedings
France:
Certain Cut-to-Length Carbon-Quality Steel Plate, A-427-816 | 2/1/01-1/31/02
Usinor S.A.
India:
Certain Cut-to-Length Carbon-Quality Steel Plate, A-533-817 | 2/1/01-1/31/02
Steel Authority of India, Ltd.
Certain Preserved Mushrooms, A-533-813 | 2/1/01-1/31/02
Agro Dutch Foods, Ltd.
Weikfield Agro Products, Ltd.
Himalaya International, Ltd.
Stainless Steel Bar, A-533-810 | 2/1/01-1/31/02
Isibars Limited
Mukand Ltd.
Venus Wire Industries Limited
Viraj Alloys, Ltd.
Viraj Viraj Forgings, Ltd.
Viraj Impoexpo Ltd.
Viraj Smelting
Viraj Profiles
Viraj Group
Forged Stainless Steel Flanges, A-533-809 | 2/1/01-1/31/02
Metal Forging Rings & Bearings
Snowdrop Trading, Pvt. Ltd.
Viraj Group
Bhansali Ferromet Pvt. Ltd.
Echjay Forgings Ltd./Pushpaman Exports
Isibars, Ltd.
Panchmahal Steel, Ltd.
Patheja Forgings & auto Parts, Ltd.
Viraj Forgings, Inc.
Indonesia:
Certain Cut-to-Length Carbon-Quality Steel Plate, A-560-805 | 2/1/01-1/31/02
PT Gunawan Dianjaya Steel
PT Jaya Pari Steel Corporation
PT Krakatau Steel
Certain Preserved Mushrooms, A-560-802 | 2/1/01-1/31/02
PT IndoEvergreen
PT Zeta Argo Corporation
PT Dieng Djaya
PT Surya Jaya
Italy:
Certain Cut-to-Length Carbon-Quality Steel Plate, A-475-826 | 2/1/01-1/31/02
Palini B Bertoli S.p.A.
Stainless Steel Butt-Weld Pipe Fittings, A-475-828 | 8/2/00-1/31/02
Union Piping S.P.A.
Coprosider S.P.A.
Japan:
Certain Cut-to-Length Carbon-Quality Steel Plate, A-588-847 | 2/1/01-1/31/02
Kawasaki Steel Corporation
Kobe Steel, Ltd.
Nippon Steel Corporation
NKK Corporation
Sumitomo Metal Industries, Ltd.
Certain Stainless Steel Bar, A-588-833 | 2/1/01-1/31/02
Aichi Steel Corporation
Mechanical Transfer Presses, A-588-810 | 2/1/01-1/31/02
Hitachi Zosen Corporation
Hitachi Zosen Fukui Corp. d/b/a H & F Corp.
Komatsu, Ltd.
Malaysia: Stainless Steel Butt-Weld Pipe Fittings, A-557-809 | 12/27/00-1/31/02
Schulz (Mfg.) Sdn. Bhd.
Republic of Korea: Certain Cut-to-Length Carbon-Quality Steel Plate, A-580-836 | 2/1/01-1/31/02
Dongkuk Steel Mill Co., Ltd.
The People's Republic of China: Axes/adzes,* A-570-803 | 2/1/01-1/31/02
Tianjin Machinery Import & Export Corp.
Bars/wedges,* A-570-803 | 2/1/01-1/31/02
Shandong Machinery Import & Export Corp.
Tianjin Machinery Import & Export Corp.
Liaoning Machinery Import & Export Corp.
Shandong Huarong General Group Corp.
Hammers/sledges,* A-570-803 | 2/1/01-1/31/02
Shandong Machinery Import & Export Corp.
Tianjin Machinery Import & Export Corp.
Picks/mattocks,* A-570-803 | 2/1/01-1/31/02
Shandong Machinery Import & Export Corp.
Tianjin Machinery Import & Export Corp.
Certain Preserved Mushrooms,¹ A-570-851 | 2/1/01-1/31/02
China Processed Food Import & Export Co.
Compania Envasadora del Atlantico
Gerber Food (Yunnan) Co., Ltd.
Green Fresh Foods (Zhangzhou) Co., Ltd.
Raoping Xingyu Foods, Co., Ltd.
Shantou Hongda Industrial General Corporation
Shenxian Dongxing Foods Co., Ltd.
Natural Bristle Paintbrushes and Brush Heads,² A-570-501 | 2/1/01-1/31/02
Hunan Provincial Native Products Import & Export Corporation
Hebei Founder Import & Export Company
Countervailing Duty Proceedings: None.
Suspension Agreements: None.
* If one of the above named companies does not qualify for a separate rate, all other exporters of certain heavy forged hand tools from the People's Republic of China who have not qualified for a separate rate are deemed to be covered by this review as part of a single PRC entity of which the named exporters are a part.
¹ If one of the above named companies does not qualify for a separate rate, all other exporters of certain preserved mushrooms from the People's Republic of China who have not qualified for a separate rate are deemed to be covered by this review as part of a single PRC entity of which the named exporters are a part.
² If one of the above named companies does not qualify for a separate rate, all other exporters of natural bristle paintbrushes and brush heads from the People's Republic of China who have not qualified for a separate rate are deemed to be covered by this review as part of a single PRC entity of which the named exporters are a part.

During any administrative review covering all or part of a period falling between the first and second or third and fourth anniversary of the publication of an antidumping duty order under section 351.211 or a determination under section 351.218(f)(4) to continue an order or suspensed investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)), and 19 CFR 351.221(c)(1)(i).

Dated: March 20, 2002.
Holly A. Kuga,
Senior Office Director, Group II, Office 4, Import Administration.

[FR Doc. 02-7332 Filed 3-26-02; 8:45 am]

BILLING CODE 3510-DS-P